SECURITIES AND EXCHANGE COMMISSION

[Release No. 34-56590; File No. SR-NYSE-2007-88]

Self-Regulatory Organizations; New York Stock Exchange LLC; Notice of Filing and Immediate Effectiveness of Proposed Rule Change To Modify the Exchange's Transaction Fees and Certain Trading Floor Fees

October 1, 2007.

Pursuant to Section 19(b)(1) of the Securities Exchange Act of 1934 (“Act”),¹ and Rule 19b-4 thereunder,² notice is hereby given that on September 27, 2007, the New York Stock Exchange LLC (“Exchange” or “NYSE”) filed with the Securities and Exchange Commission (“Commission”) the proposed rule change as described in Items I, II, and III below, which Items have been substantially prepared by the Exchange. The Commission is publishing this notice to solicit comments on the proposed rule change from interested persons.

¹ 15 U.S.C. 78s(b)(1).

² 17 CFR 240.19b-4.

I. Self-Regulatory Organization's Statement of the Terms of Substance of the Proposed Rule Change

NYSE proposes to amend its equity transaction fees, effective October 1, 2007. Member Organizations will no longer be charged a fee: (i) If they are posting liquidity on the NYSE and the applicable order is executed against an inbound order; (ii) for non-electronic agency transactions of at least 10,000 shares between floor brokers in the crowd; and (iii) for agency cross transactions of at least 10,000 shares. Member Organizations will be charged $.0008 per share when an executed order takes liquidity from the NYSE. Member organizations will be charged $.0004 per share (on both sides of the transaction) on: (i) Odd lot transactions (including the odd lot portion of partial round lots); (ii) at the opening and at the opening only orders; (iii) market at-the-close and limit at-the-close orders; and (iv) non-electronic agency transactions of less than 10,000 shares between floor brokers in the crowd. Equity transaction fees will be capped at $120 per transaction side. The Exchange is also changing its routing fee from $.0025 per share to $.0030 per share. In addition, the routing fee will now apply to transactions where the related order is placed by a broker on the Exchange trading floor. Finally, the Exchange is eliminating its broker booth fees and the $11,000 per license trading floor regulatory fee charged to non-specialist Member Organizations. The text of the proposed rule change is available at NYSE, the Commission's Public Reference Room, and http://www.nyse.com.

II. Self-Regulatory Organization's Statement of the Purpose of, and Statutory Basis for, the Proposed Rule Change

In its filing with the Commission, the Exchange included statements concerning the purpose of, and basis for, the proposed rule change. The text of these statements may be examined at the places specified in Item IV below. The Exchange has prepared summaries, set forth in Sections A, B, and C below, of the most significant aspects of such statements.

A. Self-Regulatory Organization's Statement of the Purpose of, and Statutory Basis for, the Proposed Rule Change

1. Purpose

The Exchange proposes to amend its equity transaction fees, effective October 1, 2007. Member Organizations are currently charged a transaction fee of $.000275 per share on all equity transactions whether they are providing or taking liquidity. Under the proposed amendment, Member Organizations will no longer be charged a fee: (i) If they are posting liquidity ³ on the NYSE and the applicable order is executed against an inbound order; (ii) for non-electronic agency transactions of at least 10,000 shares between floor brokers in the crowd; and (iii) for agency cross transactions of at least 10,000 shares, i.e., a trade where a Member Organization has customer orders to buy and sell an equivalent amount of the same security. Member Organizations will be charged $.0008 per share when an executed order takes liquidity from the NYSE. Member organizations will be charged $.0004 per share (on both sides of the transaction) on: (i) Odd lot transactions (including the odd lot portion of partial round lots); (ii) at the opening and at the opening only orders; (iii) market at-the-close and limit at-the-close orders; and (iv) non-electronic agency transactions of less than 10,000 shares between floor brokers in the crowd.

³ Including Percentage Orders (more commonly known as “CAP orders”), as defined in Exchange Rule 13.

Equity transaction fees will be capped at $120 per side on all equity transactions.⁴

⁴ Equity transaction fees are currently capped at $80 per side on all equity transactions.

The Exchange is also changing its routing fee (the fee it charges Member Organizations for transactions required under Regulation NMS to be routed to other markets) from $.0025 per share to $.0030 per share. The revised routing fee more closely corresponds to the actual costs the Exchange incurs in paying transaction fees to the other markets to which it routes orders. In addition, the routing fee will now apply to transactions where the related order is placed by a broker on the Exchange trading floor. The routing fee is not subject to the $120 fee cap per equity transaction.

The Exchange's transaction fees and routing fee for Exchange-Traded Fund securities remain unchanged.

The Exchange is also eliminating its booth fees ⁵ and the $11,000 per license annual trading floor regulatory fee charged to non-specialist Member Organizations.⁶

⁵ Annual booth fees are currently $7,800 for the Blue Room and Extended Blue Room, $6,000 for the Main Room and Garage, and $2,400 for the QT Room (Post Trade Processing Center).

⁶ The trading floor regulatory fee is subject to a $50,000 maximum per annum per Member Organization.

2. Statutory Basis

The Exchange believes that the proposed rule change is consistent with the objectives of Section 6 of the Act ⁷ in general and furthers the objectives of Section 6(b)(4) of the Act ⁸ in particular, in that it is designed to provide for the equitable allocation of reasonable dues, fees, and other charges among its members and other persons using its facilities.

⁷ 15 U.S.C. 78f.

⁸ 15 U.S.C. 78f(b)(4).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants or Others

Written comments were neither solicited nor received.

III. Date of Effectiveness of the Proposed Rule Change and Timing for Commission Action

The foregoing proposed rule change has become effective upon filing pursuant to Section 19(b)(3)(A) of the Act ⁹ and Rule 19b-4(f)(2) ¹⁰ thereunder, because it establishes or changes a due, fee, or other charge imposed by the Exchange.

⁹ 15 U.S.C. 78s(b)(3)(A).

¹⁰ 17 CFR 19b-4(f)(2).

At any time within 60 days of the filing of the proposed rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSE-2007-88 on the subject line.

Paper Comments

• Send paper comments in triplicate to Nancy M. Morris, Secretary, Securities and Exchange Commission, 100 F Street, NE., Washington, DC 20549-1090.

All submissions should refer to File Number SR-NYSE-2007-88. This file number should be included on the subject line if e-mail is used. To help the Commission process and review your comments more efficiently, please use only one method. The Commission will post all comments on the Commissions Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the NYSE. All comments received will be posted without change; the Commission does not edit personal identifying information from submissions. You should submit only information that you wish to make available publicly. All submissions should refer to File Number SR-NYSE-2007-88 and should be submitted on or before October 30, 2007.

For the Commission, by the Division of Market Regulation, pursuant to delegated authority.¹¹
¹¹ 17 CFR 200.30-3(a)(12).
Nancy M. Morris,
Secretary.

[FR Doc. E7-19750 Filed 10-5-07; 8:45 am]

BILLING CODE 8011-01-P